DEPARTMENT OF ENERGY

Federal Energy Regulatory Commission

Combined Notice of Filings #1

Take notice that the Commission received the following electric corporate filings:

Docket Numbers: EC16-38-000.

Applicants: The Potomac Edison Company.

Description: Application of The Potomac Edison Company for Authorization pursuant to Section 203 of the Federal Power Act, and Requests for Waivers of Certain Filing Requirements, Shortened Notice Period, and Expedited Consideration.

Filed Date: 11/20/15.

Accession Number: 20151120-5315.

Comments Due: 5 p.m. ET 12/11/15.

Take notice that the Commission received the following exempt wholesale generator filings:

Docket Numbers: EG16-23-000.

Applicants: Golden Hills Interconnection, LLC.

Description: Notice of Self-Certification of Exempt Wholesale Generator Status of Golden Hills Interconnection, LLC.

Filed Date: 11/20/15.

Accession Number: 20151120-5233.

Comments Due: 5 p.m. ET 12/11/15.

Take notice that the Commission received the following electric rate filings:

Docket Numbers: ER16-367-000.

Applicants: PJM Interconnection, L.L.C.

Description: § 205(d) Rate Filing: Service Agreement Nos. 4290, 4291; Queue Nos. Y3-044/Y3-050/Y3-053, Y3-048 to be effective 10/21/2015.

Filed Date: 11/20/15.

Accession Number: 20151120-5196.

Comments Due: 5 p.m. ET 12/11/15.

Docket Numbers: ER16-368-000.

Applicants: Shelby County Energy Center, LLC.

Description: Baseline eTariff Filing: Market-Based Rate Tariff to be effective 12/31/9998.

Filed Date: 11/20/15.

Accession Number: 20151120-5208.

Comments Due: 5 p.m. ET 12/11/15.

Docket Numbers: ER16-369-000.

Applicants: Southern California Edison Company.

Description: § 205(d) Rate Filing: Letter Agreement Desert Stateline Project to be effective 11/20/2015.

Filed Date: 11/20/15.

Accession Number: 20151120-5216.

Comments Due: 5 p.m. ET 12/11/15.

Docket Numbers: ER16-370-000.

Applicants: Nevada Power Company.

Description: Initial rate filing: Service Agreement No. 15-00055 NPC and NPC Dry Lake to be effective 11/21/2015.

Filed Date: 11/20/15.

Accession Number: 20151120-5235.

Comments Due: 5 p.m. ET 12/11/15.

Docket Numbers: ER16-371-000.

Applicants: BioUrja Power, LLC.

Description: Baseline eTariff Filing: BioUrja Power, LLC Market-Based Rate Application to be effective 11/23/2015.

Filed Date: 11/20/15.

Accession Number: 20151120-5240.

Comments Due: 5 p.m. ET 12/11/15.

Docket Numbers: ER16-372-000.

Applicants: PJM Interconnection, L.L.C.

Description: Compliance filing: Revisions to OATT Att K-Appx and OA Sched 1 re Hourly Offers, EL15-73-000 to be effective 12/31/9998.

Filed Date: 11/20/15.

Accession Number: 20151120-5242.

Comments Due: 5 p.m. ET 12/11/15.

Docket Numbers: ER16-373-000.

Applicants: Midcontinent Independent System Operator, Inc.

Description: § 205(d) Rate Filing: 2015-11-20_3rd-4th Quarter Clean-Up Filing to be effective 11/21/2015.

Filed Date: 11/20/15.

Accession Number: 20151120-5243.

Comments Due: 5 p.m. ET 12/11/15.

Docket Numbers: ER16-374-000.

Applicants: Idaho Power Company.

Description: Tariff Cancellation: Notice of Cancellation of Jefferson Line Memorandum of Understanding with PAC to be effective 1/20/2016.

Filed Date: 11/23/15.

Accession Number: 20151123-5002.

Comments Due: 5 p.m. ET 12/14/15.

Take notice that the Commission received the following electric securities filings:

Docket Numbers: ES16-4-000.

Applicants: AEP Generating Company.

Description: Amendment to October 30, 2015 Application Under Section 204 of the Federal Power Act for Authorization of AEP Generating Company to Issue Securities.

Filed Date: 11/20/15

Accession Number: 20151120-5152.

Comments Due: 5 p.m. ET 12/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2015.
Nathaniel J. Davis, Sr.,
Deputy Secretary.

[FR Doc. 2015-30423 Filed 11-30-15; 8:45 am]

BILLING CODE 6717-01-P